DEPARTMENT OF AGRICULTURE

Food and Nutrition Service

7 CFR Part 246

[FNS-2006-0037]

RIN 0584-AD77

Special Supplemental Nutrition Program for Women, Infants and Children (WIC): Revisions in the WIC Food Packages; Delay of Implementation Date

AGENCY: Food and Nutrition Service, USDA.

ACTION: Interim rule; delay of implementation date.

SUMMARY: This document delays from August 5, 2009 until October 1, 2009 the implementation date of the interim final rule entitled Special Supplemental Nutrition Program for Women, Infants and Children (WIC): Revisions in the WIC Food Packages, which was published in the Federal Register on December 6, 2007, 72 FR 68966, and became effective on February 4, 2008. The interim rule revises regulations governing the WIC food packages to align the WIC food packages with the Dietary Guidelines for Americans and current infant feeding practice guidelines of the American Academy of Pediatrics, better promote and support the establishment of successful long-term breastfeeding, provide WIC participants with a wider variety of food, and provide WIC State agencies with greater flexibility in prescribing food packages to accommodate participants with cultural food preferences. Many State agencies issue food instruments on a bi or tri-monthly basis based on the first of the month. As such, the August 5, 2009 date poses administrative and management information system challenges for State agencies. The new implementation date of October 1, 2009 uses the first date of the month and also corresponds with the beginning of the Federal fiscal year. This change is intended to result in more effective and efficient implementation of the new requirements, and enable State agencies to better manage any cost adjustments arising from the changes.

DATES: Implementation date: State agencies must fully implement the Revisions in the WIC Food Packages interim rule published December 6, 2007 (72 FR 68966) no later than October 1, 2009.

FOR FURTHER INFORMATION CONTACT: Debra Whitford, Chief, Policy and Program Development Branch, Supplemental Food Programs Division, Food and Nutrition Service, USDA, 3101 Park Center Drive, Room 528, Alexandria, Virginia 22302, (703) 305-2746, OR Debbie.Whitford@fns.usda.gov.

Dated: March 10, 2008.
Roberto Salazar,
Administrator, Food and Nutrition Service.

[FR Doc. E8-5249 Filed 3-14-08; 8:45 am]

BILLING CODE 3410-30-P